DEPARTMENT OF TRANSPORTATION

Federal Motor Carrier Safety Administration

[Docket No. FMCSA-2023-0180]

Agency Information Collection Activities; Renewal of an Approved Information Collection: Practices of Household Goods Brokers

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for review and approval. FMCSA requests OMB's renewed approval to the ICR titled “Practices of Household Brokers,” which applies to household goods (HHG) brokers who are procured by the public (HHG shippers) to arrange the transportation of the shipper's household goods by HHG motor carriers. This renewal updates wage related costs that have changed since the last approval and revises the previous information collection total respondent hourly and cost burden. FMCSA received two comments in response to the 60-day Federal Register notice.

DATES: Comments on this notice must be received on or before June 24, 2024.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Donnice Wagoner, Commercial Enforcement and Investigations Division, DOT, FMCSA, West Building 6th Floor MC-SEI, 1200 New Jersey Avenue SE, Washington, DC 20590-0001; (202) 366-8045; donnice.wagoner@dot.gov.

SUPPLEMENTARY INFORMATION:

Title: Practices of Household Goods Brokers.

OMB Control Number: 2126-0048.

Type of Request: Renewal of a currently approved collection.

Respondents: Brokers of Household Goods.

Estimated Number of Respondents: 1,256.

Estimated Time per Response: Varies.

Expiration Date: May 31, 2024.

Frequency of Response: On occasion.

Estimated Total Annual Burden: 86,488.

Background:

As a result of Title IV, Subtitle B of the Safe, Accountable, Flexible, Efficient, Transportation Equity Act: A Legacy for Users (SAFETEA-LU) (Pub. L. 109-59) and a petition for rulemaking from the American Moving and Storage Association, FMCSA amended then-existing regulations for brokers in a final rule titled, “Brokers of Household Goods Transportation by Motor Vehicles,” (75 FR 72987, Nov. 29, 2010), in 49 CFR part 371 by providing additional consumer protection responsibilities for brokers of HHG.

Section 4212 of SAFETEA-LU directs the Secretary of Transportation to require HHG brokers to provide shippers with information throughout the various stages of their interactions with shippers. The following phases summarize the information collection required by the HHG broker at the various contractual stages by 49 CFR 371.

I. First Phase: “Prospecting”

When a HHG shipper is looking to procure a HHG broker's services, the broker must collect the following information and display it on its websites and solicitation materials:

• Its physical address (§ 371.107a);

• Its U.S. DOT license number(s) (§ 371.107b);

• A statement indicating it will not transport the shipper's goods but will only arrange for goods to be transported by a registered motor carrier (§ 371.107c);

• If the broker chooses to publish rates on its website or solicitation materials, the broker must also publish a statement that the rates are based on a motor carrier's publicly available rates (§ 371.107d);

• If the broker chooses to publish a list of motor carriers it works with, the list must be a list only of carriers with which brokers have agreements (§ 371.107e); and

• Brokers must publish information regarding their cancellation policies, including information on deposits and refunds (§ 371.117a).

II. Second Phase: “Contact”

When an HHG shipper makes a reasonable request seeking additional information about broker services, the HHG broker must collect the following information and distribute it to the HHG shipper:

• A list of carriers it has agreements with (§ 371.109a); and

• A statement indicating the broker is not a carrier and that the broker is only arranging transportation of shipper's goods (§ 371.109b).

III. Third Phase: “Estimate”

When an HHG shipper requests an estimate, the broker must collect the following information and provide it to the shipper:

• FMCSA's published information material: (1) “Ready to Move? Tips for a Successful Interstate Move” and (2) “Your Rights and Responsibilities When You Move (2022 Update)” (§ 371.111a1, 2, and 3);

• A written estimate based on a physical survey of household items (§ 371.113a) and published carrier rates (§ 371.113b); and

• If applicable, a “Waiver” receipt showing the shipper waived their right to a physical survey of their household items (§ 371.113b).

The broker must obtain a signed document showing that FMCSA's published information material was received by the shipper (§ 371.111c).

IV. Fourth Phase: “Agreement”

Should the shipper find the estimate(s) and broker services reasonable and wish to book the broker's services, the two parties must enter into an agreement. At this point it is standard practice for shippers to pay a deposit or full payment. Before a deposit is collected, the broker must collect the following information and distribute it to the HHG shipper:

• An agreement document with required specifications as laid out in § 371.115; and

• An agreement document which highlights the broker's and/or motor carrier's refund policy for cancelation of agreements (§ 371.117a).

V. Fifth Phase: “Delivery”

After the broker confirms delivery of the household goods by the carrier, the broker must collect the following information and distribute it to the HHG shipper:

• A receipt with transaction data, including cancelation details if the agreement was canceled as laid out in § 371.3.

The complete collection of information, required by the referenced regulations, assists shippers in their business dealings with interstate HHG brokers. The information collected is used by prospective shippers to make informed decisions about contracts, services ordered, executed, and settled. The HHG broker is often the primary contact for individual shippers and in the best position to educate shippers and prepare them for a successful move. The information collection is intended to combat deceptive business practices and the information helps enforcement personnel better protect consumers by verifying that shippers are receiving information as required by regulations.

FMCSA revises the total annual burden to 86,488 hours. This is an increase of 13,680 annual burden hours from the currently approved 72,808 burden estimate. The increase is due to the following:

• FMCSA's records for HHG brokers increased from 652 brokers to 1,256 brokers.

Federal Register Notice and Summary of Public Comments:

On January 22, 2024, FMCSA published a notice in the Federal Register announcing a renewal of an approved ICR regarding the practices of HHG brokers. 89 FR 3983 (January 22 Notice). FMCSA sought public comment on the ICR and received two comments in response to the January 22 Notice.

On March 22, 2024, the American Trucking Association Moving and Storage Conference (ATA-MSC) filed a comment (ATA-MSC comment) in response to the January 22 Notice.

On March 22, 2024, Mayflower Transit, LLC and United Van Lines, LLC, together with their hundreds of respective statutory disclosed HHG agents around the country (collectively, UniGroup), filed a comment (UniGroup comment) in response to the January 22 Notice.

In their respective comments, ATA-MSC and UniGroup raised concerns about the accuracy of the estimated burden. ATA-MSC indicated that “while the FMCSA's “total annual burden” estimate for ICR is based on a total number of 1,256 registered household goods brokers, the ATA-MSC views the number as falling short of the actual count of entities providing household goods brokerage services, as many entities are operating without the required registration.” ATA-MSC comment, at 2. UniGroup indicated that “FMCSA's accounting of the number of registered household goods brokers is incomplete, in terms of number of household goods brokers operating in the U.S. moving market. The number of registered brokers is foundational to the ICR's estimate and as such, the ICR's estimate must be considered inaccurate” (see UniGroup comment, at 2).

In their respective comments, ATA-MSC and UniGroup raised concerns about the accuracy of FMCSA's phases summarizing the information collection required by the HHG broker at the various contractual stages per 49 CFR 371. UniGroup indicated that “the model for broker/shipper interactions described in the ICR is outdated and not consistent with current shipper engagement with brokers.” UniGroup Comment, at 3. ATA-MSC indicated “that the various phases used by FMCSA to break down the interaction between broker and consumer do not fully represent the method of interaction that exists today” (see ATA-MSC, at 8).

Additionally, ATA-MSC encouraged FMCSA to “conduct further research into the practices and activities of household goods brokers, especially those who are engaging in brokerage activities but are failing to register as required under law.” ATA-MSC comment, at 7. UniGroup stated that a “better understanding of how brokers and moving consumers interact in today's digital world will enhance the Quality used to create the ICR's estimates and perhaps more importantly, better enable FMCSA to protect consumers” (see UniGroup comment, at 5).

FMCSA continues to assume a conservative number of non-registered entities that conduct HHG brokerage activities to be 12.2 percent of the number of registered brokers. Per FMCSA records, if there are 1,119 registered brokers, then there are a total of 137 non-registered entities that conduct HHG brokerage activities (1,119 × 0.122 = 136.5). Thus, the total amount of active HHG brokers is 1,256 (1,119 + 137 = 1,256). FMCSA's model summarizing the information collection required by the HHG broker at various contractual stages is based on regulatory requirements and fully represents the required interaction between an HHG broker and consumer as outlined in 49 CFR part 371.

FMCSA agrees that further research into the practices and activities of registered HHG brokers and non-registered entities that conduct HHG brokerage activities could provide FMCSA with a more in-depth understanding of how both entities engage with consumers.

FMCSA looks forward to continuing to work with stakeholders on issues related to the practices of HHG brokers.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.
Thomas P. Keane,
Associate Administrator, Office of Research and Registration.

[FR Doc. 2024-11316 Filed 5-22-24; 8:45 am]

BILLING CODE 4910-EX-P